DEPARTMENT OF ENERGY

Federal Energy Regulatory Commission

[Project No. 2188-112]

PPL Montana, LLC; Notice Dismissing Request for Rehearing as Moot

May 3, 2005.

On December 21, 2004, Commission staff issued an order modifying and approving the final pulse flow protocol filed under Article 413 of the license for Missouri-Madison Project No. 2188, located on the Madison and Missouri Rivers in Gallatin, Madison, Lewis and Clark, and Cascade Counties, Montana ¹

¹ 109 FERC ¶ 61,303 (2004).

On January 19, 2005, PPL Montana, LLC, filed a request for clarification and rehearing of one element of staff's December 21 order. By letter issued February 9, 2005, Commission staff provided the requested clarification. Therefore, the January 19 request for rehearing is moot.

This notice constitutes final agency action. Requests for rehearing by the Commission of this dismissal must be filed within 30 days of the date of issuance of this notice, pursuant to 18 CFR 385.713.

Magalie R. Salas,
Secretary.

[FR Doc. E5-2252 Filed 5-9-05; 8:45 am]

BILLING CODE 6717-01-P